DEPARTMENT OF JUSTICE

Antitrust Division

Notice Pursuant to the National Cooperative Research and Production Act of 1993—Asymmetric Supercapacitor Based Upon Nanostructured Active Materials

Notice is hereby given that, on April 5, 1999, pursuant to section 6(a) of the National Cooperative Research and Production Act of 1993, 15 U.S.C. 4301 et seq. (“the Act”), US Nanocorp, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are US Nanocorp, Inc., North Haven, CT; Eveready Battery Co., Westlake, OH; JME, Inc., Shaker Heights, OH; and Florida Atlantic Research Corp., Boca Raton, FL. The nature and objectives of the venture are to develop and commercialize a novel type of supercapacitor that has high energy density (like a battery) and is able to operate at very high power (like a conventional capacitor).

Constance K. Robinson,
Director of Operations, Antitrust Division.

[FR Doc. 00-3969 Filed 2-17-00; 8:45 am]

BILLING CODE 4410-11-M